DEPARTMENT OF HOMELAND SECURITY

Coast Guard

33 CFR Part 165

[CGD09-05-022]

Safety Zone: Captain of the Port Detroit Zone

AGENCY: Coast Guard, DHS.

ACTION: Notice of Implementation of final rule.

SUMMARY: The Coast Guard is implementing safety zones for annual fireworks displays in the Captain of the Port Detroit Zone during June 2005. This action is necessary to provide for the safety of life and property on navigable waters during these events. These safety zones will restrict vessel traffic from a portion of the Captain of the Port Detroit Zone.

DATES: Effective from 9:30 p.m. (local) on June 23, 2005, to 10:30 p.m. (local) on June 24, 2005.

FOR FURTHER INFORMATION CONTACT: LTJG Cynthia Channell, Chief of Waterways Management, Sector Detroit, 110 Mt. Elliott Ave., Detroit, MI at (313) 568-9580.

SUPPLEMENTARY INFORMATION: The Coast Guard is implementing three permanent safety zones in 33 CFR 165.907 (published May 21, 2001, in the Federal Register, 66 FR 27868), for fireworks displays in the Captain of the Port Detroit Zone during June 2005. The following safety zones are in effect for fireworks displays occurring in the month of June 2005:

33 CFR 165.907(a)(1): Bay-Rama Fishfly Festival, New Baltimore, MI. This safety zone encompasses all waters off New Baltimore City Park, Lake St. Clair-Anchor Bay bounded by the arc of a circle with a 300-yard radius with its center located at approximate position 42°41′N, 082°44′W. This § 165.907(a)(1) safety zone will be enforced on June 23, 2005, from 9:30 p.m. to 10:30 p.m.

33 CFR 165.907(a)(3): Sigma Gamma Assoc., Grosse Pointe Farms, MI. This safety zone encompasses all waters off Ford's Cove, Lake St. Clair bounded by the arc of a circle with a 300-yard radius with its center in approximate position 42°27′N, 082°52′W. This § 165.907(a)(3) safety zone will be enforced on June 24, 2003 from 9:30 p.m. to 10:30 p.m.

33 CFR 165.907(a)(13): St. Clair Shores Fireworks, St. Clair Shores, MI. This safety zone encompasses all waters of Lake St. Clair within a 300-yard radius of the fireworks barge in approximate position 42°32′N, 082°51′W, about 1000 yards east of Veterans Memorial Park (off Masonic Rd.), St. Clair Shores, MI. This § 165.907(a)(13) safety zone will be enforced on June 24, 2005, from 10 p.m. to 10:30 p.m.

In order to ensure the safety of spectators and transiting vessels, these safety zones will be in effect for the duration of the events. In the event that these safety zones affect shipping, commercial vessels may request permission from the Captain of the Port Detroit to transit through the safety zone.

Requests must be made in advance and approved by the Captain of the Port before transits will be authorized. The Captain of the Port may be contacted via U.S. Coast Guard Group Detroit on channel 16, VHF-FM. The Coast Guard will give notice to the public via a Broadcast to Mariners that the regulation is in effect.

Dated: June 9, 2005.
P.W. Brennan,
Captain, U.S. Coast Guard, Captain of the Port Detroit.

[FR Doc. 05-12355 Filed 6-21-05; 8:45 am]

BILLING CODE 4910-15-P